DEPARTMENT OF AGRICULTURE

Animal and Plant Health Inspection Service

[Docket No. 99-055-1]

General Conference Committee of the National Poultry Improvement Plan; Reestablish

AGENCY: Animal and Plant Health Inspection Service, USDA.

ACTION: Notice of reestablishment.

SUMMARY: We are giving notice that the Secretary of Agriculture has reestablished the General Conference Committee of the National Poultry Improvement Plan for a 2-year period. The Secretary has determined that the Committee is necessary and in the public interest.

FOR FURTHER INFORMATION CONTACT: Mr. Andrew Rhorer, Senior Coordinator, National Poultry Improvement Plan, VS, APHIS, Suite A102, 1500 Klondike Road, Conyers, GA 30207-5115; (770) 922-3496.

SUPPLEMENTARY INFORMATION: The purpose of the General Conference Committee of the National Poultry Improvement Plan (Committee) is to maintain and ensure industry involvement in Federal administration of matters pertaining to poultry health.

The Committee Chairperson and the Vice Chairperson shall be elected by the Committee from among its members. There are seven members on the Committee. This Committee differs somewhat from other advisory committees in the selection process and composition of its membership. The poultry industry elects the members of the Committee. The members represent six geographic areas with one member-at-large. The membership is not subject to the U.S. Department of Agriculture's review, and a formal request for nominations for membership is not published in the Federal Register.

Done in Washington, DC, this 7th day of June 2000.
Paul W. Fiddick,
Assistant Secretary for Administration.

[FR Doc. 00-14779 Filed 6-9-00; 8:45 am]

BILLING CODE 3410-34-U